FEDERAL MINE SAFETY AND HEALTH REVIEW COMMISSION

Senior Executive Service Combined Performance Review Board

AGENCY: Federal Mine Safety and Health Review Commission.

ACTION: Notice of members of the Federal Mine Safety and Health Review Commission Combined Performance Review Board (PRB).

SUMMARY: Pursuant to 5 U.S.C. 4314(c)(4), this notice announces the appointment of members of the combined PRB for the Federal Mine Safety and Health Review Commission. The Board reviews the performance appraisals of career and non-career senior executives. The Board makes recommendations regarding proposed performance appraisals, ratings, bonuses and other appropriate personnel actions.

Composition of PRB: The Board shall consist of at least three voting members. In the case of an appraisal of a career appointee, more than half of the members shall consist of career appointees. The names and titles of the PRB members are as follows:

Primary Members

Frederick Phillips, Deputy Executive Director, Administrative Resource Center, Bureau of the Public Debt Debra L. Hines, Assistant Commissioner, Office of Public Debt Accounting, Bureau of the Public Debt Cynthia Z. Springer, Assistant Commissioner, Office of Information Technology, Bureau of the Public Debt.

Alternate Members

None.

DATES: Membership is effective on October 20, 2003.

FOR FURTHER INFORMATION CONTACT: Richard L. Baker, Executive Director, Federal Mine Safety and Health Review Commission, Suite 9500, 601 New Jersey Avenue, NW., Washington, DC 20001, (202) 434-9911.

This notice does not meet the Federal Mine Safety and Health Review Commission's criteria for significant regulations.

Dated: October 10, 2003.
Richard L. Baker,
Executive Director, Federal Mine Safety and Health Review Commission.

[FR Doc. 03-26340 Filed 10-17-03; 8:45 am]

BILLING CODE 2005-01-P